DEPARTMENT OF ENERGY

Federal Energy Regulatory Commission

Combined Notice of Filings #1

Take notice that the Commission received the following electric corporate filings:

Docket Numbers: EC17-91-000.

Applicants: Kingfisher Wind, LLC, Comanche Solar PV, LLC, BlackRock, Inc.

Description: Application for Authorization Under Section 203 of the Federal Power Act and Request for Expedited Action of Kingfisher Wind, LLC, et al.

Filed Date: 3/15/17.

Accession Number: 20170315-5188.

Comments Due: 5 p.m. ET 4/5/17.

Take notice that the Commission received the following electric rate filings:

Docket Numbers: ER10-2633-031; ER10-2570-031; ER10-2717-031; ER10-3140-031; ER13-55-021.

Applicants: Birchwood Power Partners, L.P., Shady Hills Power Company, L.L.C., EFS Parlin Holdings, LLC, Inland Empire Energy Center, LLC, Homer City Generation, L.P.

Description: Notice of Non-Material Change in Status of the GE Companies.

Filed Date: 3/15/17.

Accession Number: 20170315-5187.

Comments Due: 5 p.m. ET 4/5/17.

Docket Numbers: ER16-1036-001.

Applicants: Wolverine Power Supply Cooperative, Inc.

Description: Midcontinent Independent System Operator, Inc. submits tariff filing per 35.19a(b): Refund Report to be effective N/A.

Filed Date: 3/14/17.

Accession Number: 20170314-5188.

Comments Due: 5 p.m. ET 4/4/17.

Docket Numbers: ER17-923-001.

Applicants: Ashley Energy LLC.

Description: Tariff Amendment: Amendment to Application for MBR to be effective 2/20/2017.

Filed Date: 3/16/17.

Accession Number: 20170316-5130.

Comments Due: 5 p.m. ET 4/6/17.

Docket Numbers: ER17-1191-000.

Applicants: Otter Tail Power Company.

Description: § 205(d) Rate Filing: Supplements to Rate Schedule No. 151 to be effective 7/30/2010.

Filed Date: 3/15/17.

Accession Number: 20170315-5166.

Comments Due: 5 p.m. ET 4/5/17.

Docket Numbers: ER17-1192-000.

Applicants: Otter Tail Power Company.

Description: § 205(d) Rate Filing: Supplements to Rate Schedule No. 168 to be effective 7/30/2010.

Filed Date: 3/15/17.

Accession Number: 20170315-5168.

Comments Due: 5 p.m. ET 4/5/17.

Docket Numbers: ER17-1193-000.

Applicants: Otter Tail Power Company.

Description: § 205(d) Rate Filing: Filing Related to CASOT Service Agreements to be effective 7/30/2010.

Filed Date: 3/15/17.

Accession Number: 20170315-5169.

Comments Due: 5 p.m. ET 4/5/17.

Docket Numbers: ER17-1194-000.

Applicants: Puget Sound Energy, Inc.

Description: Tariff Cancellation: Intel Cancellation of NITSA, NOA, and IA to be effective 3/1/2017.

Filed Date: 3/16/17.

Accession Number: 20170316-5005.

Comments Due: 5 p.m. ET 4/6/17.

Docket Numbers: ER17-1199-000.

Applicants: Northern States Power Company, a Minnesota corporation.

Description: § 205(d) Rate Filing: 2017-03-16 NSP Addendum No. 1—JPZ Agrmt—304 to be effective 1/1/2015.

Filed Date: 3/16/17.

Accession Number: 20170316-5047.

Comments Due: 5 p.m. ET 4/6/17.

Docket Numbers: ER17-1200-000.

Applicants: Northern States Power Company, a Minnesota corporation.

Description: § 205(d) Rate Filing: NSPM Addendum No 1 to the JPZ Agrmt 304 0.0.0 to be effective 4/16/2016.

Filed Date: 3/16/17.

Accession Number: 20170316-5048.

Comments Due: 5 p.m. ET 4/6/17.

Docket Numbers: ER17-1201-000.

Applicants: PJM Interconnection, L.L.C.

Description: Tariff Cancellation: Cancellation of WMPA SA No. 3580; Queue No. Y1-071 to be effective 5/8/2017.

Filed Date: 3/16/17.

Accession Number: 20170316-5049.

Comments Due: 5 p.m. ET 4/6/17.

Docket Numbers: ER17-1204-000.

Applicants: PJM Interconnection, L.L.C.

Description: Tariff Cancellation: Notice of Cancellation of SA No. 3329; Queue No. X1-049 to be effective 5/12/2017.

Filed Date: 3/16/17.

Accession Number: 20170316-5072.

Comments Due: 5 p.m. ET 4/6/17.

Docket Numbers: ER17-1205-000.

Applicants: Norwalk Power LLC.

Description: Tariff Cancellation: Notice of Cancellation to be effective 3/17/2017.

Filed Date: 3/16/17.

Accession Number: 20170316-5073.

Comments Due: 5 p.m. ET 4/6/17.

Docket Numbers: ER17-1213-000.

Applicants: PJM Interconnection, L.L.C.

Description: § 205(d) Rate Filing: ISA Service Agreement No. 4634, Queue Position AB1-135 to be effective 2/15/2017.

Filed Date: 3/16/17.

Accession Number: 20170316-5098.

Comments Due: 5 p.m. ET 4/6/17.

Docket Numbers: ER17-1214-000.

Applicants: Coso Geothermal Power Holdings, LLC.

Description: § 205(d) Rate Filing: CIS & 819 Tariff Revisions to be effective 3/17/2017.

Filed Date: 3/16/17.

Accession Number: 20170316-5124.

Comments Due: 5 p.m. ET 4/6/17.

Docket Numbers: ER17-1215-000.

Applicants: Otter Tail Power Company.

Description: § 205(d) Rate Filing: Notice of Termination of Ainsworth CASOT Service Agreement to be effective 7/30/2010.

Filed Date: 3/16/17.

Accession Number: 20170316-5125.

Comments Due: 5 p.m. ET 4/6/17.

Docket Numbers: ER17-1216-000.

Applicants: PJM Interconnection, L.L.C.

Description: § 205(d) Rate Filing: Amendment to WMPA SA No. 3246; Queue No. W1-119 to be effective 4/30/2014.

Filed Date: 3/16/17.

Accession Number: 20170316-5126.

Comments Due: 5 p.m. ET 4/6/17.

Docket Numbers: ER17-1217-000.

Applicants: Total Gas & Power North America, Inc.

Description: Baseline eTariff Filing: FERC MBR Application to be effective 4/6/2017.

Filed Date: 3/16/17.

Accession Number: 20170316-5128.

Comments Due: 5 p.m. ET 4/6/17.

Docket Numbers: ER17-1218-000.

Applicants: PJM Interconnection, L.L.C.

Description: § 205(d) Rate Filing: Amendment to WMPA SA No. 3247; Queue No. W1-120 to be effective 4/30/2014.

Filed Date: 3/16/17.

Accession Number: 20170316-5129.

Comments Due: 5 p.m. ET 4/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2017.
Nathaniel J. Davis, Sr.,
Deputy Secretary.

[FR Doc. 2017-05670 Filed 3-21-17; 8:45 am]

BILLING CODE 6717-01-P